DEPARTMENT OF COMMERCE

Census Bureau

Proposed Information Collection; Comment Request; Automated Export System Program

AGENCY: U.S. Census Bureau, Commerce.

ACTION: Notice.

SUMMARY: The Department of Commerce (DOC), as part of its continuing effort to reduce paperwork and respondent burden, invites the general public and other Federal agencies to take this opportunity to comment on proposed revisions to the Automated Export System Program, as required by the Paperwork Reduction Act of 1995.

DATES: To ensure consideration, written comments must be submitted on or before February 7, 2020.

ADDRESSES: Direct all written comments to Thomas Smith, PRA Liaison, U.S. Census Bureau, 4600 Silver Hill Road, Room 7K250A, Washington, DC 20233-6700 (or via the internet at PRAcomments@doc.gov). You may also submit comments, identified by Docket Number USBC-2019-0017, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or copies of the information collection instrument(s) and instructions should be directed to Kiesha Downs, Chief, Trade Regulations Branch, U.S. Census Bureau, 4600 Silver Hill Road, Washington, DC 20233-6700, (301) 763-7079, by fax (301) 763-8835 or by email kiesha.downs@census.gov.

SUPPLEMENTARY INFORMATION

I. Abstract

Title 13, United States Code (U.S.C.), Chapter 9, Section 301 authorizes the U.S. Census Bureau (Census Bureau) to collect, compile and publish trade data. Title 15, Code of Federal Regulations (CFR), Part 30, known as the Foreign Trade Regulations (FTR), contains the regulatory provisions for preparing and filing Electronic Export information (EEI) in the Automated Export System (AES). The Census Bureau uses the AES or successor system as the instrument for collecting export trade data from parties exporting commodities from the United States. In addition to the collection of data, the Census Bureau compiles these export data from the AES. These data, along with import data function as the basis for the official U.S. merchandise trade statistics. The Census Bureau publishes import and export statistics that are used to determine the balance of international trade in goods and are designated for use as a principal economic indicator. The Census Bureau together with the Bureau of Economic Analysis releases these statistics monthly according to the U.S. International Trade in Goods and Services Press Release Schedule.

Preliminary Steel Mill Import Statistics

Since 1999, the DOC has released data on imports of steel mill products in advance of the regular monthly trade statistics release. This exception to the normal procedure was initially approved by Office of Management and Budget (OMB) in January 1999 and has been subsequently extended annually through means of a separately submitted memo. This exception has permitted the public release of preliminary monthly data on imports of steel under the provisions of the OMB's Statistical Policy Directive No. 3 on the Compilation, Release and Evaluation of Principal Federal Economic Indicators.

With this planned revision to the AES Program, the Census Bureau will request that provisions for the early release of preliminary steel mill import statistics be included in the clearance, thereby eliminating the need for a separate annual re-approval from OMB for the early release.

The International Trade Administration (ITA) relies heavily on the preliminary import statistics of steel mill products provided by the Census Bureau. In 1999, as a part of the Government's steel initiative, the DOC was instructed by the administration to monitor steel imports so that industry could monitor trends and take appropriate action. Currently, the steel industry faces a similar situation further necessitating the preliminary publication of these statistics. The early release of preliminary statistics on steel mill imports provides the public with an early warning of any potential shifts in trade patterns in this important industry. A variety of parties, including government officials and the public with an interest in imports of steel products continue to use this monitoring system heavily.

Automated Export System

The published export data enable U.S. businesses to develop practical marketing strategies as well as provide a means to assess the impact of exports on the domestic economy. These data are used in the development of U.S. government economic and foreign trade policies, including export control purposes under Title 50, U.S.C., Export Administration Act. The Bureau of Industry and Security (BIS), U.S. Customs and Border Protection (CBP), and other enforcement agencies use these data to detect and prevent the export of certain items by unauthorized parties to unauthorized destinations or end users.

Currently, the Census Bureau is drafting a Notice of Proposed Rulemaking (NPRM) to clarify the responsibilities of parties participating in routed and standard export transactions. The draft rule has received concurrence from the U.S. Department of State (State Department) and the Department of Homeland Security (DHS). Though concurrence was received from State Department and DHS, it is important to note that the BIS administers the Export Administration Regulations (EAR) that also govern routed export transactions. BIS has also drafted a NPRM to revise the EAR as it pertains to routed export transactions. Both rules have required extensive review and coordination with each agency to ensure that there are no discrepancies or contradictory language in either NPRM. The Census Bureau is working with BIS to receive concurrence in order to publish the NPRM. The goal is to publish both NPRMs around the same time in order to allow the trade community an opportunity to review the proposed requirements as they relate to both filing and licensing responsibilities in a routed export transaction.

In addition to providing clarity to the FTR on the standard and routed export transactions, the Census Bureau's NPRM proposes to revise and add several key terms including authorized agent, forwarding agent, standard export transaction and written release. While revisions to the FTR are necessary to improve clarity to the filing requirements for the routed export transaction, it is critical for the Census Bureau to ensure that any revisions made to the FTR will allow for the continued collection of complete, timely, and accurate trade statistics. To achieve this, it is critical that the responsibilities of the U.S. Principal Party in Interest (USPPI) and the U.S. authorized agent are clearly defined to ensure that the EEI is filed by the appropriate party to prevent receiving duplicate filings or in some cases, no filings. The changes proposed in the NPRM will not have an impact on the reporting burden of the export trade community.

II. Method of Collection

Automated Export System

Except as noted in Title 15 CFR, Part 30, Section 30.2(a)(1)(iv), EEI is required for all export shipments of goods valued over $2,500 per Schedule B or Harmonized Tariff Schedule of the United States Annotated commodity classification number from the United States, including Foreign Trade Zones located therein, Puerto Rico, and the U.S. Virgin Islands to foreign countries; for exports between the United States and Puerto Rico; and for exports to the U.S. Virgin Islands from the United States or Puerto Rico. The AES program is unique among Census Bureau statistical collections since it is not sent to respondents to solicit responses, as is the case with surveys. Filing EEI via the AES is a mandatory process under the statutory authority of Title 13 U.S.C., Chapter 9, Section 301. The statutory requirement is implemented by Title 15, CFR, Part 30, also referred to as the FTR. The export trade community can access the AES via a free internet-based system, called AESDirect, or they can use software that connects directly with the ACE.

For exports to Canada, a Memorandum of Understanding (MOU) signed by CBP, Canada Border Services Agency, Statistics Canada, and the Census Bureau enables the United States to substitute Canadian import statistics for U.S. export statistics. Similarly, in accordance with the MOU, Canada substitutes U.S. import statistics for Canadian exports to the United States. This exchange of data eliminates the requirement for the export trade community to file the EEI with the U.S. Government for the majority of export shipments to Canada, thus resulting in the elimination of over eight million EEI records filed in the AES annually. EEI must be filed through the AES for export shipments to Canada that require mandatory EEI filing under Title 15 CFR, Part 30, Section 30.2(a)(1)(iv). In addition, export shipments from the United States through Canada destined to a country other than Canada require EEI filing in the AES.

In most instances, the USPPI or authorized agent must file EEI via the AES and annotate the commercial loading documents with the proof of filing citation prior to the export of a shipment. In instances where the AES filing is not required, the proper exemption or exclusion legend must be noted on the commercial loading documents per Section 30.7 of the FTR.

CBP is currently conducting pilots to test the functionality regarding the filing of export manifests for air, rail, and ocean cargo to the ACE. These pilots will further the CBP initiatives set forth in the SAFE Port Act of 2006 and Executive Order 13659 to move export manifesting from the current paper-based system to an electronic system over the next several years. FTR Sections 30.7 and 30.45, require evidence of the proof of filing, post departure filing citation, AES downtime citation, exemption or exclusion legend on the bill of lading, air waybill, or other commercial loading documents. These annotations will also appear in the electronic manifest submitted to CBP. Since filers use many variations to annotate commercial loading documents, the Census Bureau, CBP, and the trade community developed guidance to ensure that a standard format is reported in the electronic manifest. This information was published in FTR Letter #10 titled Annotating the Electronic Manifest for U.S. Customs and Border Protection.

The AES enables the U.S. Government to significantly improve the quality, timeliness, and coverage of export statistics. Since July 1995, the Census Bureau and the CBP have utilized the AES to improve the reporting of export trade information, customer service, increase compliance with and enforcement of export laws, and to provide paperless reports of export information. The AES also enables the U.S. Government to increase its ability to prevent the export of certain items by unauthorized parties to unauthorized destinations and end users through electronic filing.

Steel Mill Statistics

The importer of record or its licensed customs broker file electronic entry summaries through the Automated Commercial Environment (ACE), and file paper import entry summaries (CBP-7501) or paper records of vessel foreign repair or equipment purchase (CBP-226) directly with CBP in accordance with 19 CFR parts 1-199. The FTR, subpart F addresses the general requirements for filing import entries with CBP in the ACE in accordance with 19 CFR, which is the source of the import data on steel mill products.

III. Data

OMB Control Number: 0607-0152.

Form Number(s): Automated Export System (AES).

Type of Review: Regular submission.

Affected Public: Exporters, Forwarding agents, Export Carriers.

Estimated Number of Respondents: 287,314.

Estimated Time per Response: 3 minutes per AES submission.

Estimated Total Annual Burden Hours: 865,798.

Estimated Total Annual Cost to Public: $15,688,260.

Respondent's Obligation: Mandatory.

Legal Authority: Title 13 United States Code, Chapter 9, Section 301.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2019-26452 Filed 12-6-19; 8:45 am]

BILLING CODE 3510-07-P